NATIONAL FOUNDATION ON THE ARTS AND THE HUMANITIES

Institute of Museum and Library Services; Sunshine Act Meeting of the National Museum and Library Services Board

AGENCY: Institute of Museum and Library Services (IMLS), NFAH.

ACTION: Notice of meeting.

SUMMARY: This notice sets forth the agenda of the forthcoming meeting of the National Museum and Library Services Board. This notice also describes the function of the Board. Notice of the meeting is required under the Sunshine in Government Act.

Time and Date: Tuesday, October 19, 2010 from 9:30 a.m. until 12:30 p.m.

Agenda: Twenty-First Meeting of the National Museum and Library Service Board.

I. Welcome

II. Approval of Minutes

III. Financial Update

IV. Legislative Update

V. Board Program

VI. Board Updates

VII. Adjourn

(Open to the Public)

Place: The meeting will be held in the Board Room at the Institute of Museum and Library Services. 1800 M Street, NW., 9th Floor, Washington, DC 20036. Telephone: (202) 653-4676.

FOR FURTHER INFORMATION CONTACT: Elizabeth Lyons, Director of Special Events and Board Liaison, Institute of Museum and Library Services, 1800 M Street, NW., 9th Floor, Washington, DC 20036. Telephone: (202) 653-4676 or e-mail: elyons@imls.gov.

SUPPLEMENTARY INFORMATION: The National Museum and Library Services Board is established under the Museum and Library Services Act, 20 U.S.C. 9101 et seq. The Board advises the Director of the Institute on general policies with respect to the duties, powers, and authority of the Institute of Museum and Library Services, related to museum and library services.

If you need special accommodations due to a disability, please contact: Institute of Museum and Library Services, 1800 M Street, NW., 9th Fl., Washington, DC 20036. Telephone: (202) 653-4676; TDD (202) 653-4614 at least seven (7) days prior to the meeting date.

Dated: October 7, 2010.
Nancy E. Weiss,
General Counsel.

[FR Doc. 2010-26005 Filed 10-14-10; 8:45 am]

BILLING CODE 7036-01-M